Title 3—

The President

Presidential Determination No. 2013-8 of April 11, 2013—Drawdown Pursuant to Section 552(c)(2) of the Foreign Assistance Act of 1961 of up to $10 Million in Commodities and Services From Any Agency of the United States Government to the Syrian Opposition Coalition (SOC) and the Syrian Opposition's Supreme Military Council (SMC)

Correction

In Presidential document 2013-09860 beginning on page 24317 in the issue of Wednesday, April 24, 2013, make the following correction:

On page 24318, in the Signature block, the date line should read “April 11, 2013”.

[FR Doc. C1-2013-09860

Filed 09-09-13; 8:45 am]

Billing code 1505-01-D